DEPARTMENT OF DEFENSE

Defense Logistics Agency

Privacy Act of 1974; Computer Matching Program

AGENCY: Defense Manpower Data Center, Defense Logistics Agency, DoD.

ACTION: Notice of a Computer Matching Agreement.

SUMMARY: On March 10, 2004, the Department of Defense published 2 Privacy Act notices on Privacy Act of 1974; Computer Matching Program. This notice is to correct the effective date for the notice published on page 11391 (agreement between DoD and VA) and the notice published on page 11392 (agreement between DoD and OPM). The effective date for both documents is hereby corrected to read “April 9, 2004.” All other information is unchanged.

Dated: Match 11, 2004.
L.M. Bynum,
Alternate OSD Federal Register Liaison Officer, Department of Defense.

[FR Doc. 04-5977 Filed 3-16-04; 8:45 am]

BILLING CODE 5001-06-M